FEDERAL COMMUNICATIONS COMMISSION

[OMB 3060-0016, OMB 3060-0466, OMB 3060-1216; FR ID 329288]

Information Collections Being Reviewed by the Federal Communications Commission

AGENCY: Federal Communications Commission.

ACTION: Notice; request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before April 10, 2026. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control No.: 3060-0016.

Title: FCC Form 2100, Application for Media Bureau Audio and Video Service Authorization, Schedule C (Former FCC Form 346); Sections 74.793(d) and 74.787, LPTV Out-of-Core Digital Displacement Application; Section 73.3700(g)(1)-(3), Post-Incentive Auction Licensing and Operations; Section 74.799, Low Power Television and TV Translator Channel Sharing; Section 74.720, Digital Low Power TV Distributed Transmission Systems.

Form No.: FCC Form 2100, Schedule C.

Type of Review: Revision of a currently approved collection.

Respondents: Business or other for-profit entities; Not for profit institutions; State, local or Tribal government.

Number of Respondents and Responses: 910 respondents and 910 responses.

Estimated Time per Response: 2 hours-2.5 hours.

Frequency of Response: On occasion reporting requirement; third party disclosure requirement.

Obligation to Respond: Required to obtain or retain benefits. The statutory authority for this collection is contained in section 154(i), 303, 307, 308 and 309 of the Communications Act of 1934, as amended.

Total Annual Burden: 4,090 hours.

Annual Cost Burden: $4,698,511.

Needs and Uses: On December 19, 2025, the Federal Communications Commission (Commission) released a Report and Order, FCC 25-84, concerning the advancement of the Class A, Low Power Television (LPTV) and TV translator services (LPTV Service). The Commission adopted a rule that provides that low power television and TV translator stations filing a displacement application (FCC Form 2100—Schedule C) include an exhibit explaining how their facilities were displaced—47 CFR 74.787(a)(4). The Commission also adopted a rule providing that an LPTV or TV translator channel sharee may cease channel sharing and seek to obtain a license for a non-shared channel by filing a major modification (FCC Form 2100, Schedule C) specifying a non-shared channel and facility—47 CFR 74.799(i). Finally, the Commission adopted a rule—47 CFR 74.793(j)—that requires that applicants seeking to construct facilities that would exceed the permissible interference levels in the rules pursuant to an agreement with the affected parties submit a copy of the agreement with their application. This submission is being made to OMB for approval of these new burdens.

OMB Control Number: 3060-0466.

Title: Sections 74.783, 74.791, 73.1201 and 74.1283, Station Identification.

Form Number: Not applicable.

Type of Review: Revision of a currently approved collection.

Respondents: Business or other for-profit entities; Not for-profit institutions; State, Local or Tribal Government.

Number of Respondents and Responses: 29,146 respondents; 29,146 responses.

Estimated Time per Response: 0.166-1 hour.

Frequency of Response: On occasion reporting requirement; Recordkeeping requirement; Third party disclosure requirement.

Obligation to Respond: Required to obtain or maintain benefits. The statutory authority for this collection of information is contained in 47 U.S.C. 151, 152, 154(i), 303, 307 and 308.

Total Annual Burden: 26,884 hours.

Total Annual Costs: No costs.

Needs and Uses: On December 19, 2025, the Federal Communications Commission (Commission) released a Report and Order concerning the advancement of the Class A, Low Power Television (LPTV) and TV translator services (LPTV Service). The Commission revised its LPTV Service call sign rule—74.791 to require that stations have a call sign that is appropriate for their service designation. Stations without an appropriate call sign will be required to file a call sign change to designate a rule complaint call sign. Grandfathering of existing call signs is allowed for Class A and LPTV stations. This submission is being made to OMB for approval of these new burdens.

OMB Control No.: 3060-1216.

Title: Media Bureau Incentive Auction Implementation, Sections 73.3700(c), (h)(5) and (h)(6).

Form No.: N/A.

Type of Review: Revision of a currently approved collection.

Respondents: Business or other for-profit entities; Not for profit institutions.

Number of Respondents and Responses: 1,236 respondents and 40,686 responses.

Estimated Time per Response: .004-15 hours.

Frequency of Response: One-time reporting requirement; on occasion reporting requirement; recordkeeping requirement.

Obligation to Respond: Required to obtain or retain benefits. Statutory authority for these collections are contained in 47 U.S.C. 151, 154, 301, 303, 307, 308, 309, 310, 316, 319, 325(b), 332, 336(f), 338, 339, 340, 399b, 403, 534, 535, 1404, 1452, and 1454.

Total Annual Burden: 6,570 hours.

Annual Cost Burden: $961,800.

Needs and Uses: On December 19, 2025, the Commission released a Report and Order, FCC 25-84, concerning the advancement of the Class A, Low Power Television (LPTV) and TV translator services (LPTV Service). The Commission eliminated the requirement in 47 CFR 73.3700(g)(4) that wireless licensees assigned to frequencies in the 600 MHz band under 47 CFR part 27 notify low power TV and TV translator stations of their intent to commence wireless operations and the likelihood of receiving harmful interference from the low power TV or TV translator station to such operations within the wireless licensee's licensed geographic service area. This submission is being made to OMB for approval of these new burdens.

Federal Communications Commission.
Marlene Dortch,
Secretary.

[FR Doc. 2026-02487 Filed 2-6-26; 8:45 am]

BILLING CODE 6712-01-P